DEPARTMENT OF THE INTERIOR

Fish and Wildlife Service

Endangered and Threatened Species Permit Applications

AGENCY: Fish and Wildlife Service, Interior.

ACTION: Notice of receipt of applications.

SUMMARY: The following applicants have applied for permits to conduct certain activities with endangered species.

DATES: Written data or comments must be received on or before March 27, 2006.

ADDRESSESS: Send written data or comments to the Regional Director, U.S. Fish and Wildlife Service, Ecological Services, 1 Federal Drive, Fort Snelling, Minnesota 55111-4056.

FOR FURTHER INFORMATION CONTACT: Mr. Peter Fasbender, (612) 713-5343.

SUPPLEMENTARY INFORMATION:

Permit Number: TE118259

Applicant: Civil and Environmental Consultants, Inc, Pittsburgh, Pennsylvania.

The applicant requests a permit to take the Indiana bat (Myotis sodalis and gray bat (M. grisescens) throughout their range. The scientific research is aimed at enhancement of survival of the species in the wild.

Permit Number: TE023664-15

Applicant: Environmental Solutions and Innovations, Inc. Cincinnati, Ohio.

The applicant requests a permit amendment to take Running buffalo clover (Trifolium stoloniferumr) and Northeastern bulrush (Scirpus ancistrochaetus) throughout their range. The scientific research is aimed at enhancement of survival of the species in the wild.

Permit Number: TE120231

Applicant: John Timpone, Ballwin, Missouri.

The applicant requests a permit to take the Indiana bat (Myotis sodalis) throughout Missouri, Pennsylvania, and West Virginia. The scientific research is aimed at enhancement of survival of the species in the wild.

Permit Number: TE120256

Applicant: David Ewert, Lansing, Michigan.

The applicant requests a permit to take the Kirtland's warbler (Dendroica kirtlandii) in Michigan. The scientific research is aimed at enhancement of survival of the species in the wild.

Permit Number: TE120258

Applicant: Iowa Department of Natural Resources, Des Moines, Iowa.

The applicant requests a permit to take the Topeka shiner (Notropis topeka) in Iowa. The scientific research is aimed at enhancement of survival of the species in the wild.

Permit Number: TE120259

Applicant: Missouri Department of Conservation, Chillicothe, Missouri.

The applicant requests a permit to take the Pallid sturgeon (Scaphirhynchus albus), throughout Kansas and Missouri. The scientific research is aimed at enhancement of survival of the species in the wild.

Permit Number: TE120260

Applicant: National Park Service, Ashland, Wisconsin.

The applicant requests a permit to take the bald eagle (Haliaeethus leucocephalus), throughout Indiana, Michigan, Minnesota, and Wisconsin. The scientific research is aimed at enhancement of survival of the species in the wild.

Permit Number: TE105320-1

Applicant: Tragus Environmental Consulting, Inc., Cuyahoga Falls, Ohio.

The applicant requests a permit amendment to take the Indiana bat (Myotis sodalis) and gray bat (M. grisescens) throughout their range. The scientific research is aimed at enhancement of survival of the species in the wild.

Permit Number: TE118449

Applicant: U.S. Geological Survey, Columbia Environmental Research Center, Columbia, Missouri.

The applicant requests a permit to take the Pallid sturgeon (Scaphirhynchus albus), Topeka shiner (Notropis topeka) and Neosho madtom (Noturus placidus) throughout their range. The scientific research is aimed at enhancement of survival of the species in the wild.

Authority: This notice is provided pursuant to section 10(c) of the Endangered Species Act of 1973, as amended (16 U.S.C. 1531, et seq.).

Dated: January 27, 2006.
Lynn M. Lewis,
Deputy Assistant Regional Director, Ecological Services, Region 3, Fort Snelling, Minnesota.

[FR Doc. E6-2648 Filed 2-23-06; 8:45 am]

BILLING CODE 4310-55-P